DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on January 21, 2015 (80 FR 3010).

DATES: Submit comments to the Office of Management and Budget (OMB) on or before XXX. May 29, 2015.

FOR FURTHER INFORMATION CONTACT: Dr. J. Stephen Higgins, 202-366-3976.

SUPPLEMENTARY INFORMATION:

OMB Control Number: 2127—New.

Title: Characterizing Ambulance Driver Training in EMS Systems.

Form No.: NHTSA Form 1186.

Type of Review: Regular.

Respondents: The study sample will consist of two distinct groups. The first sample will include representatives from EMS agencies across the United States. The second will include representatives from State offices that are responsible for various aspects of ambulance driver training and regulation for the 50 States and Washington, DC.

Estimated Number of Respondents: A maximum of 8,000 agencies will be solicited for the survey. Up to 153 representatives from State agencies may be contacted for semi-structured interviews.

Estimated Time per Response: The expected average completion time for the Internet-based survey of EMS agency representatives is 15 minutes. The 153 semi-structured interviews with State personnel are expected to average approximately 60 minutes in length.

Total Estimated Annual Burden Hours: 2,153 hours if all 8,000 EMS agencies and State personnel respond to the solicitations. The real burden will be reduced proportionally by the actual response rates to each information gathering effort.

Frequency of Collection: Each data collection effort will take place a single time.

Abstract: Although emergency vehicle operator training for EMS personnel has been repeatedly identified as an important step in the safety system, the current situation with respect to EMS personnel driver training in the United States is not well characterized. In order to characterize training for EMS personnel driving ambulances across the United States, the National Highway Traffic Safety Administration (NHTSA) proposes to collect information from EMS agencies providing ambulance services and State offices responsible for overseeing training, licensing, and regulation of EMS agencies and their personnel that drive ambulances. NHTSA is interested in learning about what types of driver training are required, when the training is required (new drivers, continuing education, etc.), how driving incidents (crashes, moving violations, etc.) impact driving privileges, initial qualification standards (age, number of years with license, driving record, type of license, etc.), and other related topics. Participation in the study will be voluntary and will only include State level agency representatives and representatives from EMS agencies that offer ambulance services. Data collection will be in the form of semi-structured interviews (in-person or over the phone) for personnel at State offices, and an Internet-based survey for personnel at public and private EMS agencies providing ambulance services. EMS agencies will be contacted via email, mail, or phone with a link to the Internet survey. State offices will be contacted via email or phone to participate in the semi-structured interviews. The results of this project will assist NHTSA in determining the current state of driver training for EMS personnel which will help the Agency determine if additional research and development on the topic are warranted.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Dated: April 23, 2015.
Jeff Michael,
Associate Administrator, Research and Program Development.

[FR Doc. 2015-09991 Filed 4-28-15; 8:45 am]

BILLING CODE 4910-59-P